SMALL BUSINESS ADMINISTRATION

[License No. 03/73-0228]

Toucan Capital Fund II, L.P.; Notice Seeking Exemption Under Section 312 of the Small Business Investment Act, Conflicts of Interest

Notice is hereby given that Toucan Capital Fund II, L.P., 7600 Wisconsin Ave, 7th Floor, Bethesda, MD 20814, a Federal Licensee under the Small Business Investment Act of 1958, as amended (“the Act”), in connection with the financing of a small concern, has sought an exemption under section 312 of the Act and § 107.730, Financings which Constitute Conflicts of Interest of the Small Business Administration (“SBA”) rules and regulations (13 CFR 107.730 (2002)). Toucan Capital Fund II, L.P. proposes to provide preferred equity security financing to Mednav, Inc., 500 Edgewater Drive, Wakefield, MA 01880. The financing is contemplated to provide the company with the necessary working capital.

The financing is brought within the purview of § 107.730(a)(1) of the Regulations because Toucan Ventures, an Associate of Toucan Capital Fund II, L.P., holds an ownership interest in Mednav, Inc. of greater than 10%. Therefore, this financing is considered a financing of an Associate requiring prior SBA approval.

Notice is hereby given that any interested person may submit written comments on the transaction, within 15 days of the date of this publication, to the Associate Administrator for Investment, U.S. Small Business Administration, 409 Third Street, SW., Washington, DC 20416.

Dated: March 17, 2003.
Jeffrey D. Pierson,
Associate Administrator for Investment.

[FR Doc. 03-7346 Filed 3-26-03; 8:45 am]

BILLING CODE 8025-01-P